DEPARTMENT OF HEALTH AND HUMAN SERVICES

Centers for Disease Control and Prevention

The Board of Scientific Counselors, National Center for Environmental Health/Agency for Toxic Substances and Disease Registry

In accordance with section 10(a)(2) of the Federal Advisory Committee Act (Pub. L. 92-463), the Centers for Disease Control and Prevention (CDC) and the National Center for Environmental Health/Agency for Toxic Substances Disease Registry (ATSDR) announce the following committee meeting:

Name: Board of Scientific Counselors (BSC), National Center for Environmental Health/Agency for Toxic Substances and Disease Registry (NCEH/ATSDR).

Time and Dates: 8:30 a.m.-5 p.m., November 18, 2004, 8:30 a.m.-12:30 p.m., November 19, 2004.

Place: CDC Headquarters facility, 1600 Clifton Road, Atlanta, GA 30333.

Status: Open to the public for observation, limited only by the space available. The meeting room accommodates approximately 100 people.

Purpose: The Secretary, and by delegation, the Director of the Centers for Disease Control and Prevention and the Administrator of the National Center for Environmental Health/Agency for Toxic Substances and Disease Registry, are authorized under section 301 (42 U.S.C. 241) and section 311 (42 U.S.C. 243) of the Public Health Service Act, as amended, to (1) conduct, encourage, cooperate with, and assist other appropriate public authorities, scientific institutions, and scientists in the conduct of research, investigations, experiments, demonstrations, and studies relating to the causes, diagnosis, treatment, control, and prevention of physical and mental diseases and other impairments; (2) assist States and their political subdivisions in the prevention of infectious diseases and other preventable conditions and in the promotion of health and well-being; and (3) train State and local personnel in health work. The Board of Scientific Counselors, NCEH/ATSDR provides advice and guidance to the Secretary, HHS; the Director, CDC and Administrator, ATSDR; and the Director, NCEH/ATSDR, regarding program goals, objectives, strategies, and priorities in fulfillment of the agencies' mission to protect and promote people's health. The Board provides advice and guidance that will assist NCEH/ATSDR in ensuring scientific quality, timeliness, utility, and dissemination of results. The Board also provides guidance to help NCEH/ATSDR work more efficiently and effectively with its various constituents and to fulfill its mission in protecting America's health.

Matters To Be Discussed: The agenda items for the meeting on November 18-19, 2004, will include but are not limited to an update on future initiatives; update on NCEH/ATSDR consolidation and accomplishments; reports on the Program Peer Review and the Community and Tribal subcommittees and the Health Department Workgroup; update on NCEH/ATSDR strategic priorities; report on social/behavioral sciences at NCEH/ATSDR; a review of the ATSDR Draft Dioxin Soil Policy Guidelines; and a presentation on the Emergency Preparedness and Response activities at NCEH/ATSDR.

Agenda items are tentative and subject to change.

For Further Information Contact: Individuals interested in attending the meeting, please contact Sandra Malcom, Committee Management Specialist, NCEH/ATSDR, 1600 Clifton Road, Mail Stop E-28, Atlanta, GA 30303; telephone 404/498-0003, fax 404/498-0059; e-mail: smalcom@cdc.gov. The deadline for notification of attendance is November 12, 2004.

The Director, Management Analysis and Services Office, has been delegated the authority to sign Federal Register notices pertaining to announcements of meetings and other committee management activities for both CDC and the National Center for Environmental Health/Agency for Toxic Substances and Disease Registry.

Dated: October 27, 2004.
B. Kathy Skipper,
Acting Director, Management Analysis and Services Office, Centers for Disease Control and Prevention.

[FR Doc. 04-24389 Filed 11-1-04; 8:45 am]

BILLING CODE 4163-18-P